DEPARTMENT OF HEALTH AND HUMAN SERVICES

Administration for Children and Families

Submission for OMB Review; Comment Request

Title: Head Start Family and Child Experiences Survey (FACES)

OMB No.: 0970-0151

Description: The Office of Planning, Research and Evaluation (OPRE), Administration for Children and Families (ACF), U.S. Department of Health and Human Services (HHS), is proposing to collect data for a new round of the Head Start Family and Child Experiences Survey (FACES). Featuring a new “Core Plus” study design, FACES will provide data on a set of key indicators, including information for performance measures. The design allows for more rapid and frequent data reporting (Core studies) and serves as a vehicle for studying more complex issues and topics in greater detail and with increased efficiency (Plus studies).

In fall 2014 and spring 2015, the FACES Core study will assess the school readiness skills of Head Start children, survey their parents, and ask their Head Start teachers to rate children's social and emotional skills. In spring 2015 and again in spring 2017, the number of programs in the FACES Core study sample will increase from the 60 that are used to collect data on children's school readiness outcomes to 180 for the purpose of conducting observations in 720 Head Start classrooms. Program director, center director, and teacher surveys will also be conducted at these time points. FACES Plus studies include additional survey content of policy or programmatic interest, and may involve more programs being sampled. This notice is specific to the data collection activities needed to recruit Head Start programs and centers into FACES. A future notice will provide information about data collection for the Core and Plus studies.

The method of data collection for recruitment of all programs (180 for the FACES Core and up to 50 additional programs for FACES Plus studies) will include telephone conversations with program directors and on-site coordinators who serve as liaisons between the FACES study team and the Head Start centers. These calls will inform program staff about the purpose of the study and will be used to identify the number of centers in each program in order to compile the center sampling frame.

The purpose of this data collection is to support the 2007 reauthorization of the Head Start program (Pub.L. 110-134), which calls for periodic assessments of Head Start's quality and effectiveness.

Respondents: Head Start Program Directors and Staff.

Annual Burden Estimates
Instrument | Total number of respondents | Annual number of respondents | Number of responses per respondent | Average burden hour per response | Estimated annual burden hours
Telephone script for program directors | 230 | 77 | 2 | 1 | 154
Telephone script for on-site coordinators | 230 | 77 | 2 | .75 | 116
Total |  |  |  |  | 270

Additional Information: Copies of the proposed collection may be obtained by writing to the Administration for Children and Families, Office of Planning, Research and Evaluation, 370 L'Enfant Promenade SW., Washington, DC 20447, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974, Attn: Desk Officer for the Administration for Children and Families.

Karl Koerper
OPRE Reports Clearance Officer.

[FR Doc. 2014-02949 Filed 2-11-14; 8:45 am]

BILLING CODE 4184-22-P